NATIONAL SCIENCE FOUNDATION

Agency Information Collection Activities; Comment Request

AGENCY: National Center for Science and Engineering Statistics, National Science Foundation.

ACTION: Submission for OMB review; comment request.

SUMMARY: The National Center for Science and Engineering Statistics (NCSES) within the National Science Foundation (NSF) has submitted the following information collection requirements to OMB for review and clearance under the Paperwork Reduction Act of 1995. This is the second notice for public comment; the first was published in the Federal Register and one comment was received. NSF is forwarding the proposed renewal submission to the Office of Management and Budget (OMB) for clearance simultaneously with the publication of this second notice. The full submission may be found at: http://www.reginfo.gov/public/do/PRAMain.

DATES: Written comments and recommendations for the proposed information collection should be sent within 30 days of publication of this notice to www.reginfo.gov/public/do/PRAmain. Find this particular information collection by selecting “Currently under 30-day Review—Open for Public Comments” or by using the search function.

FOR FURTHER INFORMATION CONTACT: Suzanne H. Plimpton, Reports Clearance Officer, National Science Foundation, 2415 Eisenhower Avenue, Suite E6300, Alexandria, Virginia 22314; telephone (703) 292-7556; or send email to splimpto@nsf.gov. Individuals who use a telecommunications device for the deaf (TDD) may call the Federal Information Relay Service (FIRS) at 1-800-877-8339 between 8:00 a.m. and 8:00 p.m., Eastern Time, Monday through Friday. You also may obtain a copy of the information collection request from Ms. Plimpton.

SUPPLEMENTARY INFORMATION: NCSES may not conduct or sponsor a collection of information unless the collection of information displays a currently valid OMB control number and the agency informs potential persons who are to respond to the collection of information that such persons are not required to respond to the collection of information unless it displays a currently valid OMB control number.

Title of Collection: Higher Education Research and Development Survey.

OMB Approval Number: 3145-0100.

Summary of Collection: The Higher Education Research and Development (R&D) Survey (formerly known as the Survey of R&D Expenditures at Universities and Colleges) originated in fiscal year (FY) 1954 and has been conducted annually since FY 1972. The survey represents one facet of the higher education component of the NSF's National Center for Science and Engineering Statistics (NCSES) statistical program authorized by the America COMPETES Reauthorization Act of 2010 § 505, codified in the National Science Foundation Act of 1950 (NSF Act), as amended, at 42 U.S.C. 1862. The collection also includes the Federally Funded Research and Development (FFRDC) R&D Survey, which has been conducted annually for all FFRDCs since 2001. Between 1953 and 2001, only FFRDCs administered by academic institutions were surveyed.

Use of the Information: The proposed project will continue the annual survey cycle for three years. The Higher Education R&D Survey will provide continuity of statistics on R&D expenditures by source of funding, type of R&D (basic research, applied research, or development), and field of research, with separate data requested on research equipment by field. Further breakdowns are collected on funds passed through to subrecipients and funds received as a subrecipient, and on R&D expenditures by field from specific federal agency sources. The survey also requests total R&D expenditures funded from foreign sources, R&D within an institution's medical school, clinical trial expenditures, R&D by type of funding mechanism (contracts vs. grants), and R&D by cost category (salaries, equipment, software, etc.). In addition, the survey requests headcounts and full-time equivalents of R&D personnel (researchers, R&D technicians, and R&D support staff).

Data are incorporated into a statutorily required biennial report on indicators of the state of science and engineering in the United States (42 U.S.C. 1863, Section (j)(1)). Data are also published in NSF's annual publication series Higher Education Research and Development, available on the web at http://www.nsf.gov/statistics/srvyherd/.

The Federally Funded Research and Development Centers R&D Survey will also provide continuity of statistics on R&D expenditures by source of funding (federal, state and local, business, nonprofit, or other, and federal agency source), and type of R&D (basic research, applied research, or development). The FFRDC R&D Survey also collects headcounts and full-time equivalents of R&D personnel (researchers, R&D technicians, and R&D support staff).

Data are published in NSF's annual publication series FFRDC Research and Development Survey, available on the web at https://www.nsf.gov/statistics/srvyffrdc/.

Expected respondents: The FY 2025 Higher Education R&D Survey will be administered to approximately 690 institutions. In addition, a shorter version of the survey asking for R&D expenditures by source of funding and broad field will be administered to approximately 250 institutions spending at least $150 thousand but less than $1 million on R&D in their previous fiscal year. A short population review screener is also administered to approximately 135 institutions before the survey cycle to identify potential eligible institutions not already in the survey frame. Finally, a survey requesting R&D expenditures by source of funds, cost categories, type of R&D, and R&D personnel totals will be administered to the 42 Federally Funded Research and Development Centers.

Estimate of burden: The Higher Education R&D Survey is a fully automated web data collection effort and is handled primarily by administrators in university sponsored programs and accounting offices. Response to this voluntary survey has exceeded 95 percent each year. Response to the fully automated FFRDC R&D web survey is 100 percent each year.

The total annual calculated burden across all forms is 44,698 hours. The average burden estimate per survey cycle is 64 hours for the approximately 655 institutions reporting at least $1 million in R&D expenditures, 8 hours for the approximately 260 institutions reporting at least $150 thousand but less than $1 million, 1 hour for the approximately 110 institutions in the population screener, and 14 hours for the 42 organizations completing the FFRDC R&D Survey.

Comments: As required by 5 CFR 1320.8(d), comments on the information collection activities as part of this study were solicited through publication of a 60-Day Notice in the Federal Register on March 30, 2022, at 90 FR 2034. One comment was received, to which we here respond. The comment came from the Bureau of Economic Analysis (BEA). They expressed strong support for the HERD and FFRDC surveys. NCSES is in regular contact with BEA about their data needs and sends annual data files to support their national income and product accounts (NIPAs), industry economic accounts (IEAs), and gross domestic product (GDP) by state estimates. In their comment, BEA noted the specific items used from each survey.

Comments regarding (a) whether the collection of information is necessary for the proper performance of the functions of the agency, including whether the information will have practical utility; (b) the accuracy of the agency's estimate of burden including the validity of the methodology and assumptions used; (c) ways to enhance the quality, utility and clarity of the information to be collected; or (d) ways to minimize the burden of the collection of information on those who are to respond, including through the use of appropriate automated, electronic, mechanical, or other technological collection techniques or other forms of information technology should be addressed to the points of contact in the FOR FURTHER INFORMATION CONTACT section.

Dated: May 30, 2025.
Suzanne H. Plimpton,
Reports Clearance Officer, National Science Foundation.

[FR Doc. 2025-10164 Filed 6-3-25; 8:45 am]

BILLING CODE 7555-01-P